DEPARTMENT OF TRANSPORTATION

Federal Transit Administration

Notice of Availability of Southwest Light Rail Transit Project Amended Draft Section 4(f) Evaluation

AGENCY: Federal Transit Administration (FTA), DOT.

ACTION: Notice of availability and request for comments on the Southwest Light Rail Transit Project Amended Draft Section 4(f) Evaluation.

SUMMARY: This notice announces the availability of the Southwest Light Rail Transit (LRT) Project Amended Draft Section 4(f) Evaluation, which includes preliminary Section 4(f) de minimis impact determinations for two newly identified Section 4(f) properties.

DATES: By this notice, FTA requests that comments to the Amended Draft Section 4(f) Evaluation must be received by February 25, 2016.

FOR FURTHER INFORMATION CONTACT: Kathryn Loster, FTA Regional Counsel at (312) 353-3869, kathryn.loster@dot.gov; Maya Sarna, FTA Office of Environmental Programs at (202) 366-5811, maya.sarna@dot.gov. Comments may be submitted to Nani Jacobson, Assistant Director, Environmental and Agreements, Metro Transit-Southwest LRT Project Office, 6465 Wayzata Boulevard, Suite 500, St. Louis Park, MN 55426 or via email at swlrt@metrotransit.org.

SUPPLEMENTARY INFORMATION: Notice is hereby given that the FTA is releasing an Amended Draft Section 4(f) Evaluation (Amended Evaluation) for the Southwest LRT Project (Project), evaluating two additional Section 4(f) properties in the City of Minnetonka, Minnesota.

Federal Lead Agency: FTA.

Project Sponsor: Metropolitan Council.

Project Description: The proposed project is a 14.5-mile light rail transit service that would connect downtown Minneapolis to the southwestern region of the metropolitan area through the cities of St. Louis Park, Hopkins, Minnetonka, and Eden Prairie, Minnesota. The Amended Evaluation includes FTA's preliminary determination of de minimis impact on two park properties located within the City of Minnetonka, Minnesota. Pursuant to 23 CFR 774.5, FTA requests public and agency comments only on the two properties discussed in Amended Evaluation. Comments received on the Amended Evaluation and the preliminary Section 4(f) de minimis impact determinations will be included, and responded to, in the Project's Final EIS, which will include the Southwest LRT Final Section 4(f) Evaluation.

To obtain a copy of the Amended Evaluation, please visit the Project's Web site at www.swlrt.org or by request by contacting Nani Jacobson at swlrt@metrotransit.org or Maya Sarna at maya.sarna@dot.gov.

Authority: 49 U.S.C. 303.

Issued on: January 11, 2016.
Marisol Simon,
Regional Administrator, FTA, Chicago, Illinois.

[FR Doc. 2016-00267 Filed 1-8-16; 8:45 am]

BILLING CODE P